CONSUMER PRODUCT SAFETY COMMISSION

[Docket No. CPSC- 2014-0033]

Notice of Availability: Estimated Phthalate Exposure and Risk to Pregnant Women and Women of Reproductive Age as Assessed Using Four NHANES Biomonitoring Data Sets (2005/2006, 2007/2008, 2009/2010, 2011/2012)

AGENCY: U.S. Consumer Product Safety Commission.

ACTION: Notice of availability.

SUMMARY: The Consumer Product Safety Commission (“Commission,” or “CPSC”) is announcing the availability of a document titled, “Estimated Phthalate Exposure and Risk to Pregnant Women and Women of Reproductive Age as Assessed Using Four NHANES Biomonitoring Data Sets (2005/2006, 2007/2008, 2009/2010, 2011/2012).”

DATES: Submit comments by August 7, 2015.

ADDRESSES: You may submit comments, identified by Docket No. CPSC- 2014-0033, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC- 2014-0033, into the “Search” box, and follow the prompts.

FOR FURTHER INFORMATION CONTACT: Kent R. Carlson, Ph.D., Toxicologist, Division of Toxicology & Risk Assessment, Directorate for Health Sciences, U.S. Consumer Product Safety Commission, 5 Research Place, Rockville, MD 20850-3213; email: kcarlson@cpsc.gov.

SUPPLEMENTARY INFORMATION: On December 30, 2014, the Commission issued a notice of proposed rulemaking (“NPR”) that would prohibit children's toys and child care articles containing specified phthalates. 79 FR 78324 (December 30, 2014). As provided in section 108 of the Consumer Product Safety Improvement Act of 2008 (“CPSIA”), the NPR was based on a report to the Commission (“CHAP Report”) from a Chronic Hazard Advisory Panel (“CHAP”) that the CPSIA directed the Commission to convene. The CHAP report is available at http://www.cpsc.gov/PageFiles/169902/CHAP-REPORT-With-Appendices.pdf.

As stated in the NPR, the CHAP used several data sources for human biomonitoring analysis, including data from the National Human Health and Nutrition Survey (“NHANES”). See 79 FR at 78327. Specifically, the CHAP used biomonitoring data from the 2005/2006 NHANES data set, which was the most recent data available at the time of the CHAP's analysis.

CPSC staff has reviewed subsequent NHANES data sets that were released after the CHAP's analysis. Staff also reviewed the 2005/2006 data set to replicate the CHAP's methodology. CPSC staff has prepared a document titled, “Estimated Phthalate Exposure and Risk to Pregnant Women and Women of Reproductive Age as Assessed Using Four NHANES Biomonitoring Data Sets (2005/2006, 2007/2008, 2009/2010, 2011/2012)” reflecting the staff's analysis. The document is available on the Commission's Web site at: http://www.cpsc.gov/Global/Regulations-Laws-and-Standards/CPSIA/CHAP/NHANES-Biomonitoring-analysis-for-Commission.pdf and from the Commission's Office of the Secretary at the location listed in the ADDRESSES section of this notice.

The Commission invites comment on the document, “Phthalate Exposure and Risk to Pregnant Women and Women of Reproductive Age as Assessed Using Four NHANES Biomonitoring Data Sets (2005/2006, 2007/2008, 2009/2010, 2011/2012).” Comments should be submitted by August 7, 2015. Information on how to submit comments can be found in the ADDRESSES section of this notice.

Dated: June 18, 2015.
Todd A. Stevenson,
Secretary, Consumer Product Safety Commission.

[FR Doc. 2015-15366 Filed 6-22-15; 8:45 am]

BILLING CODE 6355-01-P